DEPARTMENT OF HEALTH AND HUMAN SERVICES

Administration on Aging

Agency Information Collection Activities; Submission for OMB Review; Comment Request; Service Provider Study

AGENCY: Administration on Aging, HHS.

ACTION: Notice.

SUMMARY: The Administration on Aging (AoA) is announcing that the proposed collection of information listed below has been submitted to the Office of Management and Budget (OMB) for review and clearance under the Paperwork Reduction Act of 1995. This collection of information relates to the Area Agency on Aging and Local Service Provider Study.

DATES: Submit written comments on the collection of information by August 23, 2010.

ADDRESSES: Submit written comments on the collection of information by fax 202.395.6974 to the OMB Desk Officer for AoA, Office of Information and Regulatory Affairs, OMB.

FOR FURTHER INFORMATION CONTACT: Jennifer Klocinski at 202-357-0146.

SUPPLEMENTARY INFORMATION: In compliance with 44 U.S.C. 3507, AoA has submitted the following proposed collection of information to OMB for review and clearance.

The Older Americans Act programs are administered and implemented through the Aging Service Network which is comprised of State Units on Aging (SUA), Area Agencies on Aging (AAA) and Local Service Providers (LSP). The Administration on Aging (AoA) collects annual program data at the state level and has sponsored studies to collect information regarding the Area Agencies on Aging. The third component of the Aging Network, the Local Service Providers, are poorly understood and characterized. AoA recognizes that basic information of their characteristics and understanding of their relationship with the other Aging Network components and in particular AAAs is an important knowledge gap that is in need of filling.

A qualitative study that involves a brief pre-interview questionnaire followed by interviews with AAA directors and their staff and focus groups with provider organizations was deemed to be the most appropriate method at this stage of research on LSPs. A total of 10 states will be selected for study and within each of those states three AAAs will be selected with the help of the SUA to represent a maximum range of AAA and service provider network characteristics. A focus group will be conducted with LSPs for each AAA.

The primary purpose of the study is to better understand the complexity of the Local Service Provider network and the interactions with the Area Agencies on Aging to inform planning, policy development and implementation of the OAA reauthorization provisions. The pre-site visit questions, interviews and focus groups will provide information on the range of LSP organizational characteristics, nature of the relationship including the division of roles and responsibilities between AAAs and LSPs, and types of management information systems and provider tracking systems at the AAA level.

A second purpose will be to provide information needed for the design of future representative studies. Probabilistic sampling requires accurate definitions of the study population and the ability to construct accurate sampling frames. The information collected will be used to develop operational definitions of LSPs that will be meaningful not only to AoA but to AAAs and LSPs. Information on provider tracking systems will help AoA devise methods for sampling frame construction that take into account the variety of systems used across AAAs. The proposed data collection tools may be found on the AoA Web site at http://www.aoa.gov/AoARoot/Program_results/Program_Evaluation.aspx.

AoA estimates the burden of this collection of information as follows: 350 hours.

Dated: July 19, 2010.
Kathy Greenlee,
Assistant Secretary for Aging.

[FR Doc. 2010-18001 Filed 7-22-10; 8:45 am]

BILLING CODE 4154-01-P